INTERNATIONAL TRADE COMMISSION

[Investigation Nos. 731-TA-1347-1348 (Final)]

Biodiesel From Argentina and Indonesia

Determination

On the basis of the record ¹ developed in the subject investigations, the United States International Trade Commission (“Commission”) determines, pursuant to the Tariff Act of 1930 (“the Act”), that an industry in the United States is materially injured by reason of imports of biodiesel from Argentina and Indonesia that have been found by the U.S. Department of Commerce (“Commerce”) to be sold in the United States at less than fair value (“LTFV”).2 3

¹ The record is defined in sec. 207.2(f) of the Commission's Rules of Practice and Procedure (19 CFR 207.2(f)).

² Commissioner Jason E. Kearns did not participate in these investigations.

³ The Commission also finds that imports subject to Commerce's affirmative critical circumstances determination are not likely to undermine seriously the remedial effect of the antidumping duty order on biodiesel from Argentina.

Background

The Commission, pursuant to section 735(b) of the Act (19 U.S.C. 1673d(b)), instituted these investigations effective March 23, 2017, following receipt of a petition filed with the Commission and Commerce by the National Biodiesel Board Fair Trade Coalition, Washington DC. The Commission held a public hearing in Washington, DC, on November 9, 2017, and all persons who requested the opportunity were permitted to appear in person or by counsel. Following notification of final determinations by Commerce that imports of biodiesel from Argentina and Indonesia were being sold at LTFV within the meaning of section 735(b) of the Act (19 U.S.C. 1673d(a)), notice of the scheduling of the final phase of the Commission's antidumping duty investigations was given by posting copies of the notice in the Office of the Secretary, U.S. International Trade Commission, Washington, DC, and by publishing the notice in the Federal Register of March 12, 2018 (83 FR 10747).

The Commission made these determinations pursuant to section 735(b) of the Act (19 U.S.C. 1673d(b)). It completed and filed its determinations in these investigations on April 16, 2018. The views of the Commission are contained in USITC Publication 4775 (April 2018), entitled Biodiesel from Argentina and Indonesia: Investigation Nos. 731-TA-1347-1348 (Final).

By order of the Commission.
Issued: April 16, 2018.
William Bishop,
Supervisory Hearings and Information Officer.

[FR Doc. 2018-08232 Filed 4-18-18; 8:45 am]

BILLING CODE 7020-02-P